DEPARTMENT OF THE TREASURY

Submission for OMB Review; Comment Request

December 7, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before January 14, 2002, to be assured of consideration.

Internal Revenue Service (IRS)

OMB Number: 1545-1630.

Regulation Project Number: REG-106388-98 NPRM.

Type of Review: Extension.

Title: Education Tax Credits.

Description: Section 25A allows individual taxpayers a Hope Scholarship Credit or a Lifetime Learning Credit for certain educational expenses if certain requirements are met. The proposed regulations provide guidance to taxpayers regarding the education credits in section 25A. Section 25A provides that a taxpayer must elect to claim an education credit. The proposed regulations provide that a taxpayer must elect to claim an education credit by attaching Form 8863, “Education Credits (Hope and Lifetime Learning Credits)” to the taxpayer's return for the year in which the credit is claimed.

Respondents: Individuals or households.

Estimated Number of Respondents: 1.

Estimated Burden Hours Per Respondent: 1 hour.

Frequency of Response: Annually.

Estimated Total Reporting Burden: 1 hour.

Clearance Officer: George Freeland, Internal Revenue Service, Room 5577, 1111 Constitution Avenue, NW., Washington, DC 20224.

OMB Reviewer: Alexander T. Hunt, Office of Management and Budget, Room 10202, New Executive Office Building, Washington, DC 20503, (202) 395-7860.

Mary A. Able,
Departmental Reports Management Officer.

[FR Doc. 01-30776 Filed 12-12-01; 8:45 am]

BILLING CODE 4830-01-P